DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than March 29, 2019.

Interested persons are invited to submit written comments regarding the subject matter of the investigations to the Director, Office of Trade Adjustment Assistance, at the address shown below, not later than March 29, 2019.

The petitions filed in this case are available for inspection at the Office of the Director, Office of Trade Adjustment Assistance, Employment and Training Administration, U.S. Department of Labor, Room N-5428, 200 Constitution Avenue NW, Washington, DC 20210.

Signed at Washington, DC, this 8th day of January 2019.
Hope D. Kinglock,
Certifying Officer, Office of Trade Adjustment Assistance.

Appendix

62 TAA Petitions Instituted Between 12/1/18 and 12/31/18
TA-W | Subject firm (petitioners) | Location | Date of institution | Date of petition
94372 | Alphi Manufacturing LLC (State/One-Stop) | Jonesville, MI | 12/03/18 | 11/30/18
94373 | Bend Roof Truss (State/One-Stop) | Bend, OR | 12/03/18 | 11/30/18
94374 | DXC Technology (State/One-Stop) | Tysons, VA | 12/03/18 | 11/29/18
94375 | JPMChase (State/One-Stop) | Jersey City, NJ | 12/03/18 | 11/30/18
94376 | Ozonics, LLC (State/One-Stop) | Mason City, IA | 12/03/18 | 11/30/18
94377 | Baker Manufacturing Company, Inc. (Company) | Pineville, LA | 12/04/18 | 12/03/18
94378 | Inifinite (formerly L-Com) (State/One-Stop) | North Andover, MA | 12/04/18 | 11/30/18
94379 | Tech Mahindra Network Services, Inc. (State/One-Stop) | Overland Park, KS | 12/04/18 | 12/03/18
94380 | Payless (State/One-Stop) | Topeka, KS | 12/04/18 | 12/03/18
94381 | Qualcomm Technolgies, Inc. (State/One-Stop) | San Diego, CA | 12/04/18 | 12/03/18
94382 | ADC Die Casting LLC (State/One-Stop) | Elk Grove Village, IL | 12/06/18 | 12/05/18
94383 | Chaucer Foods, Inc. (State/One-Stop) | Forest Grove, OR | 12/06/18 | 12/05/18
94384 | Ichor Tualatin (formerly Cal-Weld) (State/One-Stop) | Tualatin, OR | 12/06/18 | 12/05/18
94385 | Openlink Financial (State/One-Stop) | New York City, NY | 12/06/18 | 12/04/18
94386 | Progress Rail Service (State/One-Stop) | Gering, NE | 12/06/18 | 12/04/18
94387 | South Coast Lumber (State/One-Stop) | Brookings, OR | 12/06/18 | 12/05/18
94388 | Halliburton Energy Services, Inc. (Finance and Accounting Depts.) (State/One-Stop) | Duncan, OK | 12/07/18 | 12/06/18
94389 | Huron Consulting Services LLC (State/One-Stop) | Chicago, IL | 12/07/18 | 12/06/18
94390 | Teradata (Workers) | Dayton, OH | 12/07/18 | 12/07/18
94391 | CA Technologies (State/One-Stop) | New York, NY | 12/10/18 | 12/07/18
94392 | Essity Professional Hygiene NA LLC (Union) | Bellemont, AZ | 12/10/18 | 12/07/18
94393 | Grays Harbor Community Hospital (Workers) | Aberdeen, WA | 12/10/18 | 11/28/18
94394 | Dormakaba USA Inc. (Company) | Madison Heights, MI | 12/11/18 | 12/10/18
94395 | nThrive (Workers) | Alpharetta, GA | 12/11/18 | 12/10/18
94396 | ABB (Baldor Electric Co.) (State/One-Stop) | Clarksville, AR | 12/12/18 | 12/11/18
94397 | Faurecia (Union) | Dexter, MO | 12/12/18 | 11/15/18
94398 | Mondi Bags USA, LLC (Union) | Arcadia, LA | 12/12/18 | 12/11/18
94399 | Windstream Communications (State/One-Stop) | Fairport, NY | 12/12/18 | 12/11/18
94400 | Qualcomm Technolgies, Inc. (State/One-Stop) | San Diego, CA | 12/13/18 | 12/12/18
94401 | Western Union LLC (State/One-Stop) | Englewood, CO | 12/13/18 | 12/12/18
94402 | Globe Metallurgical, Inc. (Company) | Selma, AL | 12/14/18 | 12/13/18
94403 | Allscripts Healthcare, LLC (Workers) | Chicago, IL | 12/17/18 | 12/16/18
94404 | LEDVANCE LLC (Company) | Versailles, KY | 12/17/18 | 12/14/18
94405 | Milco Industries, Inc., Apparel Division (Company) | Bloomsburg, PA | 12/18/18 | 12/17/18
94406 | ZF Chassis (State/One-Stop) | Chicago, IL | 12/18/18 | 12/17/18
94407 | Core Pipe Products, Inc. (State/One-Stop) | Carol Stream, IL | 12/19/18 | 12/19/18
94408 | Smart Apparel US a Sunrise Group Company (State/One-Stop) | Frisco, TX | 12/19/18 | 12/18/18
94409 | Verizon Data Services (State/One-Stop) | Temple Terrace, FL | 12/19/18 | 12/18/18
94410 | Arrow Electronics Inc. (Workers) | Porterville, CA | 12/20/18 | 12/19/18
94411 | Bayer Crop Science LP (Company) | Institute, WV | 12/20/18 | 12/18/18
94412 | Carbonite (State/One-Stop) | Lewiston, ME | 12/20/18 | 12/19/18
94413 | CITI (State/One-Stop) | Uniondale, NY | 12/20/18 | 12/19/18
94414 | CMG Mortgage DBA CMG Financial (State/One-Stop) | Lake Oswego, OR | 12/20/18 | 12/19/18
94415 | Mattex Group, LLC (Company) | Chatsworth, GA | 12/20/18 | 12/19/18
94416 | New Era Cap Company, Inc. (Union) | Derby, NY | 12/20/18 | 12/20/18
94417 | Parthenon Metal Works Fabrication Plant (State/One-Stop) | LaVergne, TN | 12/20/18 | 12/19/18
94418 | Valente Global (State/One-Stop) | Bellevue, WA | 12/20/18 | 12/18/18
94419 | Blackhawk Network (Workers) | Lewisville, TX | 12/21/18 | 12/20/18
94420 | Core Health & Fitness, LLC (State/One-Stop) | Independence, VA | 12/21/18 | 12/20/18
94421 | HSBC Technology and Services, USA (State/One-Stop) | Depew, NY | 12/21/18 | 12/20/18
94422 | Textron (Dixie Chopper) (State/One-Stop) | Fillmore, IN | 12/21/18 | 12/20/18
94423 | Allstate Insurance Lincoln Financial Services (State/One-Stop) | Lincoln, NE | 12/26/18 | 12/26/18
94424 | CWP Cabinetry/Custom Wood Products Cabinetry (State/One-Stop) | Roanoke, VA | 12/26/18 | 12/20/18
94425 | Deluxe Digital Media (State/One-Stop) | Burbank, CA | 12/26/18 | 12/21/18
94426 | Excelitas Technologies (Company) | Wheeling, IL | 12/26/18 | 12/21/18
94427 | General Motors (State/One-Stop) | Warren, OH | 12/26/18 | 12/21/18
94428 | Nestle Group (Workers) | Red Boiling Springs, TN | 12/26/18 | 12/21/18
94429 | Thomson Reuters Corporation (State/One-Stop) | Lake Oswego, OR | 12/26/18 | 12/21/18
94430 | Toys R Us (State/One-Stop) | Omaha, NE | 12/27/18 | 12/26/18
94431 | Crabtree & Evelyn, Ltd., Harvey Supply Chain International LLC (State/One-Stop) | Woodstock, CT | 12/31/18 | 12/28/18
94432 | Radisson Hotel Group—Customer Care, Reservation, and Data Entry (State/One-Stop) | Omaha, NE | 12/31/18 | 12/28/18
94433 | Tangoe, Inc. (Company) | Parsippany, NJ | 12/31/18 | 12/28/18

[FR Doc. 2019-05055 Filed 3-18-19; 8:45 am]

BILLING CODE 4510-FN-P